DEPARTMENT OF COMMERCE

Foreign-Trade Zones Board

[S-45-2023]

Approval of Expansion of Subzone 15E; Kawasaki Motors Manufacturing Corp., USA; Boonville, Missouri

On March 9, 2023, the Executive Secretary of the Foreign-Trade Zones (FTZ) Board docketed an application submitted by the Greater Kansas City Foreign-Trade Zone, Inc., grantee of FTZ 15, requesting an expansion of Subzone 15E, subject to the existing activation limit of FTZ 15, on behalf of Kawasaki Motors Manufacturing Corp., USA, in Boonville, Missouri.

The application was processed in accordance with the FTZ Act and Regulations, including notice in the Federal Register inviting public comment (88 FR 15641, March 14, 2023). The FTZ staff examiner reviewed the application and determined that it meets the criteria for approval. Pursuant to the authority delegated to the FTZ Board Executive Secretary (15 CFR 400.36(f)), the application to expand Subzone 15E was approved on May 17, 2023, subject to the FTZ Act and the Board's regulations, including section 400.13, and further subject to FTZ 15's 2,000-acre activation limit.

Dated: May 17, 2023.
Elizabeth Whiteman,
Executive Secretary.

[FR Doc. 2023-10851 Filed 5-19-23; 8:45 am]

BILLING CODE 3510-DS-P